DEPARTMENT OF THE INTERIOR

Bureau of Ocean Energy Management, Regulation and Enforcement

30 CFR Part 250

[Docket ID: BOEM-2010-0033]

RIN 1010-AD53

Production Measurement Documents Incorporated by Reference

AGENCY: Bureau of Ocean Energy Management, Regulation and Enforcement (BOEMRE), Interior.

ACTION: Proposed rule.

SUMMARY: BOEMRE proposes to incorporate by reference 15 new production measurement industry standards into the regulations governing oil, gas, and sulphur operations in the Outer Continental Shelf. Incorporation of the production measurement standards provides industry with up-to-date guidance for measuring oil and gas production volumes. This will result in more efficient measurement of oil and gas production.

DATES: Submit comments by January 25, 2011. BOEMRE may not fully consider comments received after this date.

ADDRESSES: You may submit comments on the rulemaking by any of the following methods. Please use the Regulation Identifier Number (RIN) 1010-AD53 as an identifier in your message. See also Public Availability of Comments under Procedural Matters.

• Federal eRulemaking Portal: http://www.regulations.gov. In the entry titled “Enter Keyword or ID,” enter docket ID BOEM-2010-0033 then click search. Under the tab “View By Docket Folder” you can submit public comments and view supporting and related materials available for this rulemaking. BOEMRE will post all comments.

• Mail or hand-carry comments to the Department of the Interior; Bureau of Ocean Energy Management, Regulation and Enforcement; Attention: Regulations and Standards Branch (RSB); 381 Elden Street, MS-4024, Herndon, Virginia 20170-4817. Please reference “Production Measurement Documents Incorporated by Reference, 1010-AD53” in your comments and include your name and return address.

Availability of Incorporated Documents for Public Viewing

When a copyrighted technical industry standard is incorporated by reference into our regulations, BOEMRE is obligated to observe and protect that copyright. BOEMRE provides members of the public with Web site addresses where these standards may be accessed for viewing—sometimes for free and sometimes for a fee. The decision to charge a fee is decided by standard developing organizations. The American Petroleum Institute (API) will provide free online public access to 160 key industry standards, including a broad range of technical standards once changes to the API Web site are complete. The standards represent almost one-third of all API standards and will include all that are safety-related or have been incorporated into Federal regulations, including the standards in this rule. The newly accessible standards will be available for review, and hardcopies and printable versions will continue to be available for purchase. We are proposing to incorporate both API and American Gas Association (AGA) standards, and the addresses to these Web site locations are:

API Standard/Document Contact IHS at 1-800-854-7179 or 303-397-7956 Local and International, http://www.global.ihs.com and; AGA Standard/Document 1-800-699-9277—Toll free in US & Canada http://www.techstreet.com/contact.tmpl.

For the convenience of the viewing public who may not wish to purchase or view these proposed documents online, they may be inspected at the Bureau of Ocean Energy Management, Regulation and Enforcement, 381 Elden Street, Room 3313, Herndon, Virginia 20170; phone: 703-787-1587; or at the National Archives and Records Administration (NARA). For information on the availability of this material at NARA, call 202-741-6030, or go to: http://www.archives.gov/federal_register/code_of_federal_regulations/ibr_locations.html.

These documents, if incorporated in the final rule, will continue to be made available to the public for viewing when requested. Specific information on where these documents can be inspected or purchased can be found at 30 CFR 250.198, Documents Incorporated by Reference.

FOR FURTHER INFORMATION CONTACT: Wilbon Rhome, Regulations and Standards Branch, at (703) 787-1587.

SUPPLEMENTARY INFORMATION: BOEMRE uses standards, specifications, and recommended practices developed by standard-setting organizations and the oil and gas industry as a means of establishing requirements for activities in the Outer Continental Shelf (OCS). This practice, known as incorporation by reference, allows BOEMRE to incorporate the requirements of technical documents into the regulations at 30 CFR 250.198 without increasing the volume of the Code of Federal Regulations (CFR). BOEMRE currently incorporates by reference the requirements found in 97 documents into the offshore operating regulations.

The regulations found at 1 CFR part 51 govern how BOEMRE and other Federal agencies incorporate the requirements found in various documents by reference. Agencies can only incorporate by reference through publication in the Federal Register. Agencies must also gain approval from the Director of the Federal Register for each publication incorporated by reference. Incorporation by reference of a document or publication is limited to the edition of the document or publication cited in the regulations. This means that newer editions, amendments, or revisions to documents already incorporated by reference in regulations are not part of BOEMRE regulations.

In some cases, BOEMRE may not agree with a standard or a specific section in a standard. As a result, a standard may not be included in the regulations at all or only a portion may be included. This review process is conducted by BOEMRE's Subject Matter Experts and Independent Reviewers as necessary. Standards that are considered for incorporation are subject to a side-by-side comparison of similar standards also under consideration for proposed incorporation into BOEMRE's regulations. Once this process is complete, we make a final determination whether incorporating a standard(s) will fully address our regulatory concerns. This is accomplished by a final review of the proposed standard and the regulation that it would be incorporated into. Based on this review criteria, BOEMRE then makes a final determination either to accept or reject the standard(s) proposed for incorporation.

BOEMRE is proposing to incorporate the requirements found in 15 measurement documents (i.e., 12 American Petroleum Institute (API) and 3 American Gas Association (AGA) documents) to add the most current and updated measurement standards to provide industry with up-to-date guidance for measurement technology. The incorporation of these new standards will ensure that lessees use the best available and most accurate technologies while operating in the OCS.

Measurement documents were chosen for incorporation into the regulations based on the latest technological advances introduced in these standards and highlighted in the synopsis below. BOEMRE, in cooperation with independent reviewers from industry and academia, reviews and comments on the contents of these documents. Additionally, since this is a proposed rulemaking, public comments that we receive from the regulated industry are considered an unbiased and independent review and may be included in the final rule.

BOEMRE constantly participates in the reviews, revisions, and updates of standards to determine if new versions should be incorporated into our regulations. This may be necessary because of changes in technology, environmental concerns, or incidents or trend in incidents. Also, we may request that a standard writing body develop a new standard based on incident analysis or due to the introduction of new technologies, such as deepwater operations and floating production systems.

BOEMRE has reviewed the following requirements in these listed documents and proposes they be incorporated into the regulations at 30 CFR Part 250 to ensure that industry uses the best available and most accurate measurement technologies. BOEMRE review shows that the decision to use these standards will not impose additional costs on the offshore oil and gas industry.

A summary of BOEMRE's review of the documents is provided below:

• AGA Report No. 7—Measurement of Natural Gas by Turbine Meters; Revised February 2006:

This standard applies to the installation, calibration, and operation of axial-flow turbine flow meters for measurement of natural gas, typically 2-inch and larger bore diameter, in which the entire gas stream flows through the meter rotor. Typical applications include measuring single-phase gas flow found in production, process, transmission, storage, and distribution and end-use gas measurement systems.

• AGA Report No. 9—Measurement of Gas by Multipath Ultrasonic Meters; Second Edition, April 2007:

This standard describes the optimum conditions and best practices for multipath ultrasonic transit-time flow meters used for the measurement of natural gas. Multipath ultrasonic meters have at least two independent pairs of measuring transducers (acoustic paths). Typical applications include measuring the flow of gas through production facilities, transmission pipelines, storage facilities, distribution systems, and large end-use customer meter sets. BOEMRE currently requires multipath ultrasonic meters used for gas royalty or allocation measurement to contain at least three independent pairs of measuring transducers.

• AGA Report No. 10—Speed of Sound in Natural Gas and Other Related Hydrocarbon Gases; January 2003:

This standard contains information for computation of speed of sound in natural gas and other related hydrocarbon gases. Procedures are included for computation of several related gas properties, including heat capacity, enthalpy, and the critical flow coefficient for sonic nozzles.

At the request of API, Standard 2551, Measurement and Calibration of Horizontal Tanks, First Edition, 1965; reaffirmed March 2002, has been withdrawn and divided into two separate standards as discussed below:

• API MPMS Chapter 2.2E—Calibration of Horizontal Cylindrical Tanks —Part 1: Manual Methods, First Edition, April 2004:

This standard specifies manual methods for the calibration of nominally horizontal cylindrical tanks, installed at a fixed location. It is applicable to horizontal tanks up to 4 meters in diameter and 30 meters in length. The methods are applicable to insulated and non-insulated tanks, either when they are above ground or underground. The methods are applicable to pressurized tanks, and to both knuckle-dish-end and flat-end cylindrical tanks as well as elliptical and spherical head tanks. Information is also provided to address tanks over and above these dimensions.

• API MPMS Chapter 2.2F—Calibration of Horizontal Cylindrical Tanks —Part 2: Internal Electro-optical Distance-Ranging Method, First Edition, April 2004:

This standard specifies a method for the calibration of horizontal cylindrical tanks having diameters greater than 2 meters by means of internal measurements using an electro-optical distance-ranging instrument, and for the subsequent compilation of tank-capacity tables. This method is known as the internal electro-optical distance-ranging (EODR) method.

• API MPMS Chapter 4—Proving Systems, Section 8—Operation of Proving Systems; First Edition, November 1995; Reaffirmed March 2007:

This standard provides information on operating meter provers in single-phase liquid hydrocarbons, though much of the information provided is applicable to other fluids. It is intended for use as a reference manual for operating proving systems.

• API MPMS Chapter 5—Metering, Section 6—Measurement of Liquid Hydrocarbons by Coriolis Meters; First Edition, October 2002; Reaffirmed March 2008:

This standard is applicable to custody transfer applications for liquid hydrocarbons. Topics covered are:

• Applicable API standards used in the operation of Coriolis meters,

• Proving and verification using both mass- and volume-based meters, and

• Installation, operation, and maintenance.

The mass- and volume-based calculation procedures for proving and quantity determination are included in this document. Additionally the Coriolis meter is capable of simultaneously determining density; however, this document does not address its use as a stand-alone densitometer.

• API MPMS Chapter 5—Metering, Section 8—Measurement of Liquid Hydrocarbons by Ultrasonic Flow Meters Using Transit Time Technology; First Edition, February 2005:

This standard defines the application criteria for Ultrasonic Flow Meters (UFMs) and addresses the appropriate considerations regarding the liquids to be measured. Also, this document addresses the installation, operation, and maintenance of UFMs in liquid hydrocarbon service. This standard only pertains to spool type, two or more path ultrasonic flow meters with permanently affixed transducer assemblies. While this document was specifically written for custody transfer measurement, other acceptable applications may include allocation measurement, check meter measurement, and leak detection measurement.

• API MPMS Chapter 11—Physical Properties Data, Section 1—Temperature and Pressure Volume Correction Factors for Generalized Crude Oils, Refined Products, and Lubricating Oils; May 2004; Addendum 1, September 2007:

This standard provides the algorithm and implementation procedure for the correction of temperature and pressure effects on density and volume of liquid hydrocarbons which fall within the categories of crude oil, refined products, or lubricating oils. Natural gas liquids and liquid petroleum gases are excluded from consideration in this standard. The combination of density and volume correction factors for both temperature and pressure is collectively referred to in this standard as a Correction for Temperature and Pressure of a Liquid. The temperature portion of this correction is termed the Correction for the effect of Temperature on Liquid, also historically known as Volume Correction Factor. The pressure portion is termed the Correction for the effect of Pressure on Liquid.

• API MPMS Chapter 12—Calculation of Petroleum Quantities, Section 2—Calculation of Petroleum Quantities Using Dynamic Measurement Methods and Volumetric Correction Factors, Part 3—Proving Reports; First Edition, October 1998; Reaffirmed 2009:

This standard provides standardized calculation methods for the determination of meter factors under defined conditions, regardless of the point of origin or destination or units of measure required by governmental customs or statute. The criteria contained here will allow different entities using various computer languages on different computer hardware (or by manual calculations) to arrive at identical results using the same standardized input data. This document also specifies the equations for computing correction factors, including the calculation sequence, discrimination levels, and rules for rounding to be employed in the calculations. No deviations from these specified equations are permitted, since the intent of this document is to establish a rigorous standard.

• API MPMS Chapter 12—Calculation of Petroleum Quantities, Section 2—Calculation of Petroleum Quantities Using Dynamic Measurement Methods and Volumetric Correction Factors, Part 4—Calculation of Base Prover Volumes by the Waterdraw Method; First Edition, December 1997; Reaffirmed 2009:

This standard provides standardized calculation methods for the quantification of liquids and the determination of base prover volumes under defined conditions, regardless of the point of origin or destination or units of measure required by governmental organizations. The criteria contained in this document allows different individuals, using various computer languages on different computer hardware (or manual calculations), to arrive at identical results using the same standardized input data. Part 4 of this standard discusses the calculation procedures for the waterdraw calibration method. It is important to point out that this publication rigorously specifies the equations for computing correction factors, rules for rounding, the sequence of the calculations, and discriminations levels of all numbers to be used in these calculations. No deviations from these specifications are permitted since the intent of this document is to serve as a rigorous standard.

• API MPMS Chapter 12—Calculation of Petroleum Quantities, Section 2—Calculation of Petroleum Quantities Using Dynamic Measurement Methods and Volumetric Correction Factors, Part 5—Calculation of Base Prover Volume by Master Meter Method; First Edition, September 2001; Reaffirmed October 2006:

This standard provides standardized calculation methods for the quantification of liquids and the determination of base prover volumes under defined conditions, regardless of the point of origin or destination or units of measure required by governmental customs or statute. The criteria contained in this document allow different entities using various computer languages on different computer hardware (or manual calculations) to arrive at identical results using the same standardized input data. Part 5 of this standard discusses the calculation procedures required to determine the base prover volume by the master meter method. This document also specifies the equations for computing correction factors, rules for rounding, including the calculational sequence, and discrimination levels to be employed in the calculations. No deviations from these specified equations are permitted, since the intent of this document is to establish a rigorous standard.

• API MPMS, Chapter 21—Flow Measurement Using Electronic Metering Systems, Section 2—Electronic Liquid Volume Measurement Using Positive Displacement and Turbine Meters; First Edition, June 1998:

This standard provides guidance for effective utilization of electronic liquid measurement systems for custody transfer measurement of liquid hydrocarbons. The guidance applies to systems using turbine or positive displacement meters. The procedures and techniques discussed in the document are recommended for use with new measurement applications. Liquid measurement using existing equipment and techniques not in compliance with this standard may have a higher uncertainty than liquid measurement based on the recommendations contained in this document.

• API MPMS Chapter 21—Flow Measurement Using Electronic Metering Systems, Addendum to Section 2—Flow Measurement Using Electronic Metering Systems, Inferred Mass; First Edition, August 2000; Reaffirmed February 2006:

This standard specifically covers inferred mass measurement systems utilizing flow computers as the tertiary flow calculation device and either turbine or displacement type meters, working with on-line density meters, as the primary measurement devices. The procedures and techniques discussed in this document are required for use with new measurement applications. Liquid measurement using existing equipment and techniques, not in compliance with this standard, may have a higher uncertainty than liquid measurement based on the recommendations contained in this document.

• API RP 86, Recommended Practice for Measurement of Multiphase Flow; First Edition, September 2005:

This recommended practice addresses how the user measures (multiphase) flow rates of oil, gas, water, and any other fluids that are present in the effluent stream of a single well. This requires the definition not only of the methodology that is to be employed, but also the provision of evidence that this methodology will produce a quality measurement in the intended environment. It is intended that this recommended practice be used in conjunction with other similar documents to guide the user toward good measurement practice in upstream hydrocarbon production applications. The term upstream refers to those measurement points prior to, but not including, the custody transfer point.

Procedural Matters

Regulatory Planning and Review (Executive Order (E.O.) 12866)

This proposed rule is a significant rule as determined by the Office of Management and Budget (OMB) and is subject to review under E.O. 12866.

(1) This proposed rule would not have an annual effect of $100 million or more on the economy. It would not adversely affect in a material way the economy, productivity, competition, jobs, the environment, public health or safety, or State, local, or Tribal governments or communities. The primary purpose of this proposed rule is to add the most current and updated measurement standards so that lessees may use new measurement technology. BOEMRE believes that these new standards will provide guidance to lessees and operators and would not result in any additional costs.

(2) This proposed rule would not create a serious inconsistency or otherwise interfere with an action taken or planned by another agency because it does not harm other agencies, nor does it hinder other agencies from taking action.

(3) This proposed rule would not materially alter the budgetary effects or entitlements, grants, user fees, or loan programs or the rights or obligations of their recipients. The benefits of the proposed changes in this rule justify the negligible cost incurred by the offshore oil and gas industry. The minor cost to the industry in most cases would be minor equipment modification or replacement, some additional training and the purchase price of the new document. Additionally, these benefits would add the most current and updated measurement standards to provide industry with up-to-date guidance for measurement technology. Requiring compliance with the standards in the new editions of these documents incorporated by reference would assure the use of the best available and most accurate measurement technologies for operations on the OCS.

(4) This proposed rule would raise novel, legal, or policy issues arising out of legal mandates, the President's priorities, or the principles set forth in E.O. 12866.

Regulatory Flexibility Act

The Department of the Interior certifies that this proposed rule would not have a significant economic effect on a substantial number of small entities under the Regulatory Flexibility Act (5 U.S.C. 601 et seq.).

This proposed rule would affect lessees and operators of oil and gas leases in the OCS. This includes approximately 130 active Federal oil and gas lessees. Lessees that conduct business under this rule are coded under the Small Business Administration's (SBA) North American Industry Classification System (NAICS) codes 211111, Crude Petroleum and Natural Gas Extraction, and 213111, Drilling Oil and Gas Wells. For these NAICS code classifications, a small company is defined as one with fewer than 500 employees. BOEMRE estimates that approximately 70 percent of the 130 lessees and operators that explore for and produce oil and gas on the OCS meet the definition of a small company. This rule, which proposes to incorporate 15 new standards, would not have a significant economic effect on a substantial number of small companies because the newly incorporated standards would not impose significant costs or burdens on any lessees or operators. Therefore, the primary economic effect of this rule on small business would be the nominal cost associated with the purchase of the standards.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of BOEMRE, call 1-888-734-3247. You may comment to the Small Business Administration without fear of retaliation. Allegations of discrimination/retaliation filed with the Small Business Administration will be investigated for appropriate action.

Small Business Regulatory Enforcement Fairness Act

The proposed rule is not a major rule under the Small Business Regulatory Enforcement Fairness Act (5 U.S.C. 801 et seq.). This proposed rule:

a. Would not have an annual effect on the economy of $100 million or more. The main purpose of this rule would be to add industry standards to provide industry with up-to-date guidance in the use of new measurement technology.

b. Would not cause a major increase in costs or prices for consumers, individual industries, Federal, State, or local government agencies, or geographic regions. The cost to comply with the rule would be the same as current requirements.

c. Would not have a significant adverse effect on competition, employment, investment, productivity, innovation, or ability of U.S.-based enterprises to compete with foreign-based enterprises. The requirements would apply to all entities operating on the OCS.

Unfunded Mandates Reform Act of 1995

This proposed rule would not impose an unfunded mandate on State, local, or Tribal governments or the private sector of more than $100 million per year. The proposed rule would not have a significant or unique effect on State, local, or Tribal governments or the private sector. A statement containing the information required by the Unfunded Mandates Reform Act (2 U.S.C. 1501 et seq.) is not required.

Takings Implication Assessment (E.O. 12630)

Under the criteria in E.O. 12630, this proposed rule does not have significant takings implications. The proposed rule is not a governmental action capable of interference with constitutionally protected property rights. A Takings Implication Assessment is not required.

Federalism (E.O. 13132)

Under the criteria in E.O. 13132, this proposed rule does not have federalism implications. This proposed rule would not substantially and directly affect the relationship between the Federal and State governments. To the extent that State and local governments have a role in OCS activities, this proposed rule would not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this proposed rule and determined that it has no potential effects on Federally recognized Indian Tribes. There are no Indian or Tribal lands in the OCS nor Tribally owned businesses subject to the regulation.

Paperwork Reduction Act

The proposed revisions do not contain any information collection and do not require a submission to the Office of Management and Budget for review and approval under the Paperwork Reduction Act of 1995 (44 U.S.C. 3501 et seq.).

National Environmental Policy Act of 1969 (NEPA)

This rule does not constitute a major Federal action significantly affecting the quality of the human environment. A detailed statement under the National Environmental Policy Act of 1969 is not required because the rule is covered by a categorical exclusion. This rule is excluded from the requirement to prepare a detailed statement because it falls within BOEMRE categorical exclusion covering the “Issuance and modification of regulations, Orders, Standards, Notices to Lessees and Operators. Guidelines and field rules for which the impacts are limited to administrative, economic, or technological effects and the environmental impacts are minimal” are categorically excluded under 516 Departmental Manual 15.4(C)(1). We have also determined that the rule does not involve any of the extraordinary circumstances listed in 43 CFR 46.215 that would require further analysis under the National Environmental Policy Act.

Data Quality Act

In developing this rule, we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

Clarity of This Regulation

We are required by E.O. 12866, E.O. 12988, and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Public Availability of Comments

Before including your address, phone number, e-mail address, or other personal identifying information in your comment, you should be aware that your entire comment—including your personal identifying information—may be made publicly available at any time. While you can ask us in your comment to withhold your personal identifying information from public review, we cannot guarantee that we will be able to do so.

List of Subjects in 30 CFR Part 250

Continental shelf, Incorporation by reference, Public lands—mineral resources, Reporting and recordkeeping requirements.

Dated: November 18, 2010.
Ned Farquhar,
Deputy Assistant Secretary—Land and Minerals Management.

For the reasons stated in the preamble, BOEMRE proposes to amend 30 CFR part 250 as follows:

PART 250—OIL AND GAS AND SULPHUR OPERATIONS IN THE OUTER CONTINENTAL SHELF

1. The authority citation for part 250 continues to read as follows:

Authority: 31 U.S.C. 9701, 43 U.S.C. 1334.

2. Amend § 250.198 by:

a. Removing paragraph (h)(75) and redesignating paragraphs (h)(76) through (h)(80) as (h)(75) through (h)(79) respectively;

b. Adding new paragraphs (h)(80) through (h)(91); and

c. Adding new paragraph (l) to read as follows:

§ 250.198 Documents incorporated by reference.

* * * * *

(h) * * *

(80) API MPMS Chapter 2.2E—Calibration of Horizontal Cylindrical Tanks—Part 1: Manual Methods, First Edition, April 2004, Order No. HX202E01; incorporated by reference at § 250.1202(l)(4);

(81) API MPMS Chapter 2.2F—Calibration of Horizontal Cylindrical Tanks—Part 2: Internal Electro-optical Distance-Ranging Method, First Edition, April 2004, Order No. HH202F01; incorporated by reference at § 250.1202(l)(4);

(82) API MPMS, Chapter 4—Proving Systems, Section 8—Operation of Proving Systems; First Edition, November 1995; reaffirmed March 2007, Order No. H04081; incorporated by reference at § 250.1202(a)(3), (f)(1);

(83) API MPMS, Chapter 5—Metering, Section 6—Measurement of Liquid Hydrocarbons by Coriolis Meters; First Edition, October 2002; reaffirmed March 2008, Order No. H05061; incorporated by reference at § 250.1202(a)(3);

(84) API MPMS, Chapter 5—Metering, Section 8—Measurement of Liquid Hydrocarbons by Ultrasonic Flow Meters Using Transit Time Technology; First Edition, February 2005; Product No. H050801; incorporated by reference at § 250.1202(a)(3);

(85) API MPMS Chapter 11—Physical Properties Data, Section 1—Temperature and Pressure Volume Correction Factors for Generalized Crude Oils, Refined Products, and Lubricating Oils; May 2004, Addendum 1 September 2007, Product No. H11013; incorporated by reference at § 250.1202(a)(3), (g);

(86) API MPMS, Chapter 12—Calculation of Petroleum Quantities, Section 2—Calculation of Petroleum Quantities Using Dynamic Measurement Methods and Volumetric Correction Factors, Part 3—Proving Reports; First Edition, October 1998; reaffirmed 2009, Product No. H12023; incorporated by reference at § 250.1202(a)(3), (g);

(87) API MPMS, Chapter 12—Calculation of Petroleum Quantities, Section 2—Calculation of Petroleum Quantities Using Dynamic Measurement Methods and Volumetric Correction Factors, Part 4—Calculation of Base Prover Volumes by the Waterdraw Method, First Edition, December 1997; reaffirmed 2009, Order No. H12042; incorporated by reference at § 250.1202(a)(3), (g);

(88) API MPMS, Chapter 12—Calculation of Petroleum Quantities, Section 2—Calculation of Petroleum Quantities Using Dynamic Measurement Methods and Volumetric Correction Factors, Part 5—Calculation of Base Prover Volume by Master Meter Method; First Edition, September 2001; reaffirmed October 2006, Product No. H12025; incorporated by reference at § 250.1202(a)(3), (g);

(89) API MPMS, Chapter 21—Flow Measurement Using Electronic Metering Systems, Section 2—Electronic Liquid Volume Measurement Using Positive Displacement and Turbine Meters; First Edition, June 1998; Order No H21021; incorporated by reference at § 250.1202(a)(3);

(90) API MPMS, Chapter 21—Flow Measurement Using Electronic Metering Systems, Addendum to Section 2—Flow Measurement Using Electronic Metering Systems, Inferred Mass; First Edition, August 2000; reaffirmed February 2006; Order No. H2102A; incorporated by reference at § 250.1203(b)(4);

(91) API RP 86, Recommended Practice for Measurement of Multiphase Flow; First Edition, September 2005; Product No. G08601; incorporated by reference at § 250.1201, § 250.1202 (a)(3), and § 250.1203(a)(2).

* * * * *

(l) American Gas Association (AGA Reports), 400 North Capitol Street, NW., Suite 450, Washington, DC 20001, http://www.aga.org; phone: (202) 824-7000;

(1) AGA Report No. 7—Measurement of Natural Gas by Turbine Meters; Revised February 2006; AGA Catalog No. XQ0601; incorporated by reference at § 250.1203(a)(2);

(2) AGA Report No. 9—Measurement of Gas by Multipath Ultrasonic Meters; Second Edition, April 2007; AGA Catalog No. XQ0701; incorporated by reference at § 250.1203(a)(2);

(3) AGA Report No. 10—Speed of Sound in Natural Gas and Other Related Hydrocarbon Gases; May 2003; AGA Catalog No. XQ0310; incorporated by reference at § 250.1203(a)(2).

[FR Doc. 2010-29645 Filed 11-24-10; 8:45 am]

BILLING CODE 4310-MR-W-P